ENVIRONMENTAL PROTECTION AGENCY

[EPA-HQ-OW-2006-0408; FRL-8251-8]

Agency Information Collection Activities; Submission to OMB for Review and Approval; Comment Request; Reporting and Recordkeeping Under EPA's Water Efficiency Program; EPA ICR No. 2233.01

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request for a new collection. The ICR, which is abstracted below, describes the nature of the information collection and its estimated burden and cost.

DATES: Additional comments may be submitted on or before January 5, 2006.

ADDRESSES: Submit your comments, referencing Docket ID No. EPA HQ-OW-2006-0408, to (1) EPA online using http://www.regulations.gov (our preferred method), by e-mail to OW-Docket@epa.gov, or by mail to: EPA Docket Center, Environmental Protection Agency, Water Docket, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Cindy Simbanin, Office of Waste Water Management, Office of Water, 4204M, Environmental Protection Agency, 1200 Pennsylvania Ave., NW., Washington, DC 20460; telephone number: 202 564-3837; fax number: 202 501-2396; e-mail address: simbanin.cynthia@epa.gov.

SUPPLEMENTARY INFORMATION: EPA has submitted the following ICR to OMB for review and approval according to the procedures prescribed in 5 CFR 1320.12. On August 4, 2006 (71 FR 44277), EPA sought comments on this ICR pursuant to 5 CFR 1320.8(d). EPA received one comment during the comment period, which is addressed in the ICR. Any additional comments on this ICR should be submitted to EPA and OMB within 30 days of this notice.

EPA has established a public docket for this ICR under Docket ID No. EPA-HQ-OW-2006-0408, which is available for online viewing at http://www.regulations.gov, or in person viewing at the Water Docket in the EPA Docket Center (EPA/DC), EPA West, Room 3334, 1301 Constitution Ave., NW., Washington, DC. The EPA/DC Public Reading Room is open from 8 a.m. to 4:30 p.m., Monday through Friday, excluding legal holidays. The telephone number for the Reading Room is 202-566-1744, and the telephone number for the Water Docket is 202-566-2426.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, CBI, or other information whose public disclosure is restricted by statute. For further information about the electronic docket, go to http://www.regulations.gov.

Title: Reporting and Recordkeeping Requirements Under EPA's Water Efficiency Program.

ICR numbers: EPA ICR No. 2233.01.

ICR Status: This ICR is for a new information collection activity. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: EPA's Water Efficiency Program is a voluntary program designed to create self-sustaining markets for water efficient products and services via a common label. The program provides incentives for manufacturers to design, produce, and market water-efficient products. In addition, the program provides incentives for service providers (e.g., landscapers) to deliver water-efficient products. The program also encourages consumers and commercial and institutional purchasers of water-using products and systems to choose water-efficient products and engage in water-efficient practices.

EPA's Water Efficiency Program partners with manufacturers, retailers, utilities, state and local governments, NGOs, plumbers, developers, contractors, architects, landscapers, irrigation professionals, and service certification programs to market and adopt the Water Efficiency Program, and provide labeled products and programs. To participate in the program, organizations will complete a Partnership Agreement, which details the partner and EPA commitments under the program, and is signed by a senior official at both EPA and the partner organization. EPA asks manufacturers, certification programs, and builders to submit an EPA Water Efficiency Program New Certified Product Notification Form within 12 months of execution of the Partnership Agreement. This document provides EPA information to verify that the product or service meets EPA specifications based on independent testing. EPA will use this information to inform the public on water efficient products and services. In addition, EPA requests partners submit promotional plans and annual updates on progress implementing the program. EPA intends to use this information to identify partnership opportunities and assess progress meeting program goals.

In the third year of the program, EPA plans to initiate an awards program that will require interested partners to submit an awards application form. Participation in the awards program is strictly voluntary. The purpose of this information collection is to document partner successes for further recognition. Partners may designate certain information submitted under this ICR as confidential business information. All information identified as confidential business information collected under this ICR will not be available to the public. Participation on the awards program is entirely voluntary.

Burden Statement: The annual public reporting and recordkeeping burden for this collection of information is estimated to average 89 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: The universe of each respondent activity varies depending upon the specific activity. The respondent universe for each information collection activity associated with EPA Water Efficiency Program is presented and explained separately below.

Partnership Agreement: EPA estimates that 3,800 partners will join the program in the first year, 5,000 in the second year, and 6,200 in the third year of the program, for an average of 5,000 partners per year. EPA estimates that certified professionals will comprise the vast majority of partnerships. For other partner categories, EPA anticipates welcoming 100 partners in the first year, 75 in the second year, and 125 in the third year.

New Certified Product Notification Form: During the three-year period covered by this ICR, EPA anticipates developing specifications for 13 categories of products and services. Each product category has specific information that must be submitted by partners who desire to label their product(s). EPA anticipates that manufacturers will submit a total of 450 products for certification in the 13 categories over the first 3 years of the program. This translates to 150 products annually. Of the 450 total applications, EPA anticipates updating the Web registry of labeled products on a monthly basis.

Promotional Plan: With an exception for certified professionals, EPA plans to request submission of one Promotional Plan per partner for each year the partner participates in the program. Thus, EPA anticipates receiving 100 promotional plans in the first year, 175 in the second and 300 in the third for an average of 192 per year.

Annual Update: With an exception for certified professionals, EPA plans to require submission of one Annual Update per partner for each year the partner participates in the program. Thus, EPA anticipates receiving 100 Annual Updates in the first year, 175 in the second and 300 in the third for an average of 192 per year.

Award Application: EPA plans to initiate an awards program by the third year of the Water Efficiency Program. Based on the popularity of other EPA awards programs, EPA anticipates receiving 100 applications during the first round of award applications.

Estimated Number of Respondents: 214 State and local government; 427 private sector, 5000 individuals per year.

Frequency of Response: Once/year.

Estimated Total Annual Hour Burden: 50,081.

Estimated Total Annual Cost: $3,372,000, includes $125,000 annual capital/startup and O&M costs and $3,247,000 annual labor costs.

Dated: November 29, 2006.
Oscar Morales,
Director, Collection Strategies Division.

[FR Doc. E6-20644 Filed 12-5-06; 8:45 am]

BILLING CODE 6560-50-P